OFFICE OF PERSONNEL MANAGEMENT

Excepted Service; November 2022

AGENCY: Office of Personnel Management.

ACTION: Notice.

SUMMARY: This notice identifies Schedule A, B, and C appointing authorities applicable to a single agency that were established or revoked from November 1, 2022 to November 30, 2022.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during November 2022.

Schedule B

No Schedule B Authorities to report during November 2022.

Schedule C

The following Schedule C appointing authorities were approved during November 2022.

Agency name | Organization name | Position title | Authorization No. | Effective date
DEPARTMENT OF AGRICULTURE | Office of Communications | Communications Advisor for Speech Writing | DA230009 | 11/07/2022
| Office of the Secretary | Director of Scheduling and Advance | DA230012 | 11/09/2022
|  | Deputy Director of Scheduling | DA230013 | 11/09/2022
| Office of the Under Secretary for Research, Education, and Economics | Confidential Assistant | DA230016 | 11/18/2022
| Rural Business Service | Chief of Staff | DA230015 | 11/09/2022
| Office of Rural Development | Senior Advisor State Director—Puerto Rico | DA230017 DA230018 | 11/18/2022 11/18/2022
DEPARTMENT OF COMMERCE | Office of Public Affairs | Director of Digital Strategy | DC230010 | 11/04/2022
| Office of the Chief Financial Officer and Assistant Secretary for Administration | Special Assistant | DC230011 | 11/04/2022
| National Telecommunications and Information Administration | Senior Advisor for Public Affairs Chief of Staff for National Telecommunications and Information Administration | DC230013 DC230014 | 11/04/2022 11/04/2022
|  | Special Assistant for External Affairs | DC230021 | 11/25/2022
FEDERAL PERMITTING IMPROVEMENT STEERING COUNCIL | Federal Permitting Improvement Steering Council | Associate Director for Public Engagement | FF220003 | 11/23/2022
COUNCIL ON ENVIRONMENTAL QUALITY | Council on Environmental Quality | Press Secretary | EQ230001 | 11/01/2022
DEPARTMENT OF DEFENSE | Office of the Assistant Secretary of Defense (Legislative Affairs) | Special Assistant to the Assistant Secretary of Defense for Legislative Affairs | DD230022 | 11/14/2022
DEPARTMENT OF THE AIR FORCE | Office of the Secretary | Deputy Chief of Staff to the Secretary of the Air Force | DF230002 | 11/18/2022
DEPARTMENT OF THE NAVY | Office of the Secretary of the Navy | Special Assistant | DN230003 | 11/08/2022
DEPARTMENT OF EDUCATION | Office of Communications and Outreach | Special Assistant, Family Outreach | DB230016 | 11/28/2022
|  | Press Secretary, Oversight | DB230013 | 11/29/2022
| Office of Planning, Evaluation and Policy Development | Senior Advisor | DB230014 | 11/22/2022
| Office of the General Counsel | Senior Counsel, Oversight | DB230006 | 11/08/2022
| Office of the Secretary | Deputy Director, White House Initiative on Advancing Educational Equity, Excellence, and Economic Operations | DB230011 | 11/09/2022
DEPARTMENT OF ENERGY | Office of the Assistant Secretary for Congressional and Intergovernmental Affairs | Deputy Assistant Secretary for House Affairs | DE230010 | 11/02/2022
| Office of the State and Community Energy Programs | Special Assistant | DE230013 | 11/15/2022
ENVIRONMENTAL PROTECTION AGENCY | Office of the Assistant Administrator for Air and Radiation | Special Advisor for Implementation | EP230004 | 11/01/2022
| Office of the Assistant Administrator for Enforcement and Compliance Assurance | Senior Advisor | EP230008 | 11/02/2022
| Office of the Administrator | Special Assistant to the White House Liaison | EP230011 | 11/16/2022
EXPORT-IMPORT BANK | Office of the Chairman | Confidential Assistant to the Chairman | EB230001 | 11/09/2022
GENERAL SERVICES ADMINISTRATION | Office of the Administrator Office of Strategic Communication | Scheduler Speechwriter | GS230004 GS230005 | 11/10/2022 11/14/2022
DEPARTMENT OF HEALTH AND HUMAN SERVICES | Office of Health Resources and Services Administration | Director of Strategic Communications | DH230021 | 11/14/2022
| Office of Intergovernmental and External Affairs | Director of External Affairs Special Assistant | DH230010 DH230025 | 11/04/2022 11/30/2022
| Office of the Assistant Secretary for Legislation | Special Assistant | DH230017 | 11/22/2022
| Office of the General Counsel | Senior Counsel, Oversight | DH230009 | 11/04/2022
| Office of the Secretary | Special Advisor Policy Advisor | DH230019 DH230039 | 11/04/2022 11/30/2022
DEPARTMENT OF HOMELAND SECURITY | Office of Strategy, Policy, and Plans | Special Advisor | DM230016 | 11/22/2022
DEPARTMENT OF HOUSING AND URBAN DEVELOPMENT | Office of Congressional and Intergovernmental Relations | Special Advisor | DU230009 | 11/18/2022
| Office of Fair Housing and Equal Opportunity | Policy Advisor | DU230003 | 11/04/2022
| Office of Public Affairs | Director, Strategic Communications | DU230008 | 11/14/2022
| Office of the Administration | Advance Coordinator | DU230007 | 11/11/2022
DEPARTMENT OF THE INTERIOR | Secretary's Immediate Office | Special Assistant to the Chief of Staff | DI230004 | 11/14/2022
|  | Press Assistant | DI230003 | 11/15/2022
| Bureau of Reclamation | Policy Associate | DI230005 | 11/30/2022
DEPARTMENT OF JUSTICE | Executive Office for United States Attorneys | Confidential Assistant (2) | DJ230009 DJ230011 | 11/21/2022 11/28/2022
| Office of Legislative Affairs | Senior Counsel Chief of Staff and Senior Counsel | DJ230005 DJ230018 | 11/16/2022 11/16/2022
|  | Attorney Advisor | DJ230014 | 11/18/2022
| Office of the Deputy Attorney General | Senior Counsel | DJ230022 | 11/17/2022
DEPARTMENT OF LABOR | Office of Congressional and Intergovernmental Affairs | Senior Legislative Assistant | DL230003 | 11/18/2022
| Office of Occupational Safety and Health Administration | Special Assistant | DL230005 | 11/18/2022
| Office of the Secretary | Director of Advance | DL230006 | 11/30/2022
|  | Executive Director of Scheduling and Advance | DL230007 | 11/30/2022
|  | Event Director | DL230008 | 11/30/2022
OFFICE OF MANAGEMENT AND BUDGET | Office of Transportation, Homeland, Justice and Services Division | Confidential Assistant | BO230002 | 11/18/2022
OFFICE OF PERSONNEL MANAGEMENT | Office of Congressional, Legislative, and Intergovernmental Affairs | Deputy Director, Congressional, Legislative and Intergovernmental Affairs | PM230007 | 11/29/2022
OFFICE OF THE UNITED STATES TRADE REPRESENTATIVE | Office of Intergovernmental Affairs and Public Liaison | Assistant United States Trade Representative for Intergovernmental Affairs and Public Engagement | TN230003 | 11/02/2022
SECURITIES AND EXCHANGE COMMISSION | Office of Legislative and Intergovernmental Affairs | Legislative Affairs Specialist | SE230001 | 11/17/2022
SMALL BUSINESS ADMINISTRATION | Office of the Administrator | Special Advisor for Public Engagement | SB230003 | 11/22/2022
| Office of Field Operations | Senior Advisor | SB230004 | 11/29/2022
DEPARTMENT OF STATE | Office of Policy Planning | Senior Advisor (Speechwriter) | DS230006 | 11/01/2022
| Bureau of Educational and Cultural Affairs | Special Assistant | DS230007 | 11/01/2022
| Office of the Deputy Secretary | Senior Advisor (Speechwriter) | DS230010 | 11/04/2022
| Office of the Under Secretary for Economic Growth, Energy, and the Environment | Senior Advisor | DS230011 | 11/17/2022
DEPARTMENT OF TRANSPORTATION | Office of the Secretary Immediate Office of the Administrator | Special Assistant for Scheduling Director of Governmental, International and Public Affairs | DT230009 DT230011 | 11/02/2022 11/03/2022
| Office of Public Affairs | Press Secretary | DT230014 | 11/16/2022
| Office of Pipeline and Hazardous Materials Safety Administration | Strategic Advisor to the Administrator | DT230015 | 11/16/2022
| Office of Maritime Administration | Advisor to the Administrator | DT230016 | 11/16/2022
DEPARTMENT OF THE TREASURY | Office of the Under Secretary for International Affairs | Special Assistant | DY230013 | 11/02/2022
| Office of the Assistant Secretary (Economic Policy) | Special Assistant Russia/Ukraine | DY230015 | 11/04/2022
| Office of the Assistant Secretary (Public Affairs) | Spokesperson | DY230018 | 11/10/2022
| Office of the Under Secretary for Domestic Finance | Special Assistant | DY230027 | 11/22/2022
UNITED STATES ELECTION ASSISTANCE COMMISSION | Office of the United States Election Assistance Commission | Confidential Assistant | EA230001 | 11/08/2022

The following Schedule C appointing authorities were revoked during November 2022.

Agency name | Organization name | Position title | Request No. | Vacate date
DEPARTMENT OF COMMERCE | Office of the Assistant Secretary Legislative and Intergovernmental Affairs | Legislative Affairs Specialist | DC220068 | 11/19/2022
DEPARTMENT OF EDUCATION | Office of Communications and Outreach | Press Secretary | DB210061 | 11/19/2022
| Office of the Secretary | Director, Scheduling and Advance | DB210110 | 11/04/2022
DEPARTMENT OF ENERGY | Office of General Counsel | Legal Advisor | DE210104 | 11/05/2022
| Office of Management | Special Assistant | DE220072 | 11/19/2022
| Office of Public Affairs | Deputy Press Secretary | DE210170 | 11/06/2022
DEPARTMENT OF HEALTH AND HUMAN SERVICES | Office of Administration for Children and Families | Senior Advisor Director of Communications | DH210250 DH210243 | 11/12/2022 11/19/2022
| Office of Intergovernmental and External Affairs | Regional Director, Chicago, IL—Region V | DH220058 | 11/12/2022
| Office of the Secretary | Special Assistant | DH210244 | 11/05/2022
DEPARTMENT OF HOMELAND SECURITY | Cybersecurity and Infrastructure Security Agency | Advisor | DM220178 | 11/10/2022
DEPARTMENT OF HOUSING AND URBAN DEVELOPMENT | Office of Congressional and Intergovernmental Relations | Special Assistant | DU210105 | 11/19/2022
| Office of Public Affairs | Deputy Assistant Secretary for Public Affairs | DU210028 | 11/18/2022
ENVIRONMENTAL PROTECTION AGENCY | Office of Public Affairs | Writer-Editor (Speechwriter) | EP220025 | 11/05/2022
OFFICE OF PERSONNEL MANAGEMENT | Office of the Director | Senior Advisor for Operations | PM220040 | 11/19/2022
OFFICE OF THE SECRETARY OF DEFENSE | Office of the Under Secretary of Defense (Personnel and Readiness) | Staff Director | DD220086 | 11/30/2022
SMALL BUSINESS ADMINISTRATION | Office of Capital Access | Deputy Associate Administrator for Capital Access | SB210051 | 11/05/2022

Authority: 5 U.S.C. 3301 and 3302; E.O. 10577, 3 CFR, 1954-1958 Comp., p. 218.

Office of Personnel Management.
Kayyonne Marston,
Federal Register Liaison.

[FR Doc. 2023-13632 Filed 6-26-23; 8:45 am]

BILLING CODE 6325-39-P